DEPARTMENT OF TRANSPORTATION

Federal Aviation Administration

Notice of Availability of the Record of Decision for the 1999 Final Supplemental Environmental Impact Statement for 1992 Environmental Impact Statement for Master Plan Development, Indianapolis International Airport

AGENCY: Federal Aviation Administration (FAA, DOT).

ACTION: Notice of availability of a record of Decision.

SUMMARY: The FAA is issuing this notice to advise the public that the FAA Regional Administrator has approved and signed the Record of Decision (ROD) for implementation of air traffic control noise abatement procedures and land use mitigation measures at Indianapolis International Airport on March 20, 2000.

ADDRESSES: The Record of Decision is available for review at: Federal Aviation Administration, Airspace Branch, AGL-520, 2300 East Devon Avenue, Des Plaines, Illinois 60018.

FOR FURTHER INFORMATION CONTACT: Ms. Annette Davis, Environmental Specialist, AGL-520.E, 2300 East Devon Avenue, Des Plaines, Illinois 60018, Telephone (847) 294-8091.

SUPPLEMENTARY INFORMATION: The FAA is issuing this notice of availability of its March 20, 2000 Record of Decision to assure that all persons have notification that the FAA has decided to implement the air traffic control noise abatement procedures and land use mitigation measures for Indianapolis International Airport contained in the 1999 Final Supplemental Environmental Impact Statement for the 1992 Environmental Impact Statement for the 1992 Environmental Impact Statement for Master Plan Development.

Issued in Des Plaines, Illinois on March 22, 2000.
David B. Johnson,
Acting Manager, Air Traffic Division.

[FR Doc. 00-8971 Filed 4-10-00; 8:45 am]

BILLING CODE 4910-13-M